SMALL BUSINESS ADMINISTRATION

[Declaration of Disaster #3339; Amendment #2]

State of Wisconsin

In accordance with a notice received from the Federal Emergency Management Agency, dated June 8, 2001, the above-numbered Declaration is hereby amended to include Bayfield County as a disaster area caused by flooding occurring between April 10, 2001 and continuing through May 29, 2001.

In addition, applications for economic injury loans from small businesses located in Ashland County in the State of Wisconsin may be filed until the specified date at the previously designated location. Any counties contiguous to the above named primary counties and not listed here have been previously declared.

All other information remains the same, i.e., the deadline for filing applications for physical damage is July 10, 2001 and for economic injury the deadline is February 11, 2002.

(Catalog of Federal Domestic Assistance Program Nos. 59002 and 59008.)

Dated: June 11, 2001.
James E. Rivera,
Acting Associate Administrator for Disaster Assistance.

[FR Doc. 01-15119 Filed 6-14-01; 8:45 am]

BILLING CODE 8025-01-P